DEPARTMENT OF THE INTERIOR

Office of the Assistant Secretary

[RR04000000, XXXR0680R1, RR.17549897.2015000.02]

Final Environmental Assessment of the Proposed Olmsted Hydroelectric Power Plant Replacement Project

AGENCY: Central Utah Project Completion Act Office, Interior.

ACTION: Notice of Availability.

SUMMARY: The Department of the Interior and the Central Utah Water Conservancy District, as joint leads, have evaluated the impacts of a proposed replacement of the Olmsted Hydroelectric Power Plant and have prepared an associated Final Environmental Assessment and Finding of No Significant Impact. Therefore, an Environmental Impact Statement is not required.

ADDRESSES: Copies of the Final Environmental Assessment and Finding of No Significant Impact are available for inspection at:

• Central Utah Water Conservancy District, 355 West University Parkway, Orem, Utah 84058-7303

• Department of the Interior, Central Utah Project Completion Act Office, 302 East 1860 South, Provo, Utah 84606

In addition, the documents are available at www.cuwcd.com, www.cupcao.gov, or www.cuwcd.com/olmsted/index.html.

FOR FURTHER INFORMATION CONTACT: Mr. W. Russ Findlay, Central Utah Project Completion Act Office, 302 East 1860 South, Provo, Utah 84606; by calling 801-379-1084; or email at wfindlay@usbr.gov.

SUPPLEMENTARY INFORMATION: The Department of the Interior and Central Utah Water Conservancy District are publishing this notice pursuant to Section 102(2)(c) of the National Environmental Policy Act of 1969, as amended. The Final Environmental Assessment presents analysis of the anticipated environmental effects of a proposed replacement of the Olmsted Hydroelectric Power Plant. The Proposed Action in the Final Environmental Assessment includes: constructing a new powerhouse, replacing the penstocks, modifying existing operations to utilize the 10 million gallon Olmsted Flow Equalization Reservoir, marketing the power generated, constructing operation and maintenance facilities, and improving access to the site.

Dated: March 3, 2015.
Reed R. Murray,
Program Director, Central Utah Project Completion Act, Department of the Interior.

[FR Doc. 2015-05378 Filed 3-6-15; 8:45 am]

BILLING CODE 4332-90-P